DEPARTMENT OF THE INTERIOR

Minerals Management Service

Notice on Outer Continental Shelf Oil and Gas Lease Sales

AGENCY: Minerals Management Service, Interior.

ACTION: List of restricted joint bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period May 1, 2002, through October 31, 2002. The List of Restricted Joint Bidders published October 12, 2001, in the Federal Register at 66 FR 52150 covered the period November 1, 2001, through April 30, 2002.

Group I. Exxon Mobil Corporation and ExxonMobil Exploration Company.

Group II. Shell Oil Company, Shell Offshore Inc., SWEPI LP, Shell Frontier Oil & Gas Inc., Shell Consolidated Energy Resources Inc., Shell Land & Energy Company, Shell Onshore Ventures Inc., Shell Offshore Properties and Capital II, Inc., and Shell Rocky Mountain Production LLC.

Group III. BP Exploration & Oil Inc., BP Exploration & Production Inc., BP Exploration (Alaska) Inc., Amoco Production Company, Vastar Offshore Inc., and Vastar Resources Inc.

Group IV. TotalFinaElf E&P USA, Inc., Elf Aquitaine Oil Programs, Inc., TOTAL Exploration Production USA, Inc., and Fina E&P Inc.

Group V. ChevronTexaco Corporation, Chevron U.S.A. Inc., Texaco Inc., and Texaco Exploration and Production Inc.

Dated: March 29, 2002.
R.M. “Johnnie” Burton,
Director, Minerals Management Service.

[FR Doc. 02-8848 Filed 4-11-02; 8:45 am]

BILLING CODE 4310-MR-P